DEPARTMENT OF STATE

[Public Notice 3993]

Bureau of Educational and Cultural Affairs Request for Grant Proposals: FREEDOM Support Educational Partnerships Program (Formerly NIS College and University Partnerships Program and NIS Community College Partnerships Program)

SUMMARY: The Office of Global Educational Programs of the Bureau of Educational and Cultural Affairs in the Department of State announces an open competition for the FREEDOM Support Educational Partnerships Program. Accredited, post-secondary educational institutions meeting the provisions described in Internal Revenue Code section 26 USC 501(c)(3) may apply to pursue institutional or departmental objectives in partnership with foreign counterpart institutions with support from the FREEDOM Support Educational Partnerships Program. These objectives should support the overall goals of the Program: to support democratic systems and market economies in Armenia, Azerbaijan, Georgia, Kazakhstan, Kyrgyzstan, Moldova, Russia, Tajikistan, Ukraine, and Uzbekistan, and to strengthen mutual understanding and cooperation between these countries and United States on subjects of enduring common interest to the participating countries and institutions. The means for achieving these objectives may include teaching, scholarship, and outreach to professionals and other members of the communities served by the participating institutions.

Program Overview

The FREEDOM Support Educational Partnerships Program, formerly known as the NIS College and University Partnerships Program and as the NIS Community College Partnerships Program, supports institutional linkages in higher education with partners in eligible countries with funding available through the FREEDOM Support Act. In each of the three prior years, the Bureau issued a separate solicitation for community colleges. This year, in an effort to streamline the administration of grants, both programs are combined in this RFGP.

The Bureau also supports institutional linkages in higher education with partners worldwide through the Fulbright Educational Partnerships Program. Pending availability of FY 2003 funding, it is anticipated that a separate Request for Grant Proposals for the Fulbright Educational Partnerships Program will appear on the State Department Web site at http://exchanges.state.gov/education/rfgps.

Other RFGPs for educational partnerships may also be published this fiscal year.

Project Objectives

This RFGP does not prescribe specific project objectives, but establishes the parameters within which applicants are invited to propose projects. Proposals should explain how project activities will enable participants to achieve specific institutional changes. Institutional objectives should be consistent with the Program's goal of supporting democratic systems based on market economies in the eligible countries. While the benefits of the project to each of the participating institutions may differ significantly in nature and scope based on their respective needs and resource bases, proposals should outline well-reasoned strategies that are designed to meet specific objectives for each participating U.S. and foreign department or institution as a whole. Proposals to pursue a limited number of related thematic objectives at each institution are generally preferred to proposals addressing a large number of unrelated objectives.

For example, proposals may outline the parameters and possible content of new courses; new research or teaching specializations or methodologies; new or revised curricula; new programs for outreach to educators, professional groups, or the general public. Proposals should explain clearly their strategies to promote curriculum, faculty, and staff development, as well as administrative reform, at the foreign partner institution(s). Projects may result in the development of a new academic program or the restructuring of an existing program, and should equip institutions of higher education to contribute to democracy and open markets in the foreign partner country. Plans to enable participants to extend the benefits of the project to larger audiences through outreach to foreign government, NGO, and business representatives are especially encouraged. Proposals should also outline benefits that would accrue to the U.S. institutional partner(s).

In addition to demonstrating how each participating institution can assist its partner(s) to meet institutional goals, proposals should also explain how this cooperation will enable each institution to address its own needs. Accordingly, applicants are encouraged to describe the needs and deficiencies as well as the capabilities and strengths of each participating department and institution, and how each institution will contribute to and benefit from the achievement of project objectives. Proposals that realistically assess institutional capacities will be better able to outline compelling objectives that address institutional needs and justify a request for support. To be competitive, proposals should demonstrate that the participating institutions understand one another and are committed to mutual support and cooperation in project implementation.

If the proposed partnership would occur within the context of a previous or ongoing project, the proposal should explain how the request for Bureau funding would build upon the pre-existing relationship or complement previous and concurrent projects. Previous projects should be described, with details about the amounts and sources of support and the results of previous cooperative efforts.

Institutions receiving partnership grant awards will be expected to submit periodic reports on the results of program activities. Proposals should outline and budget for a methodology for project evaluation. The evaluation plan should include an assessment of the current status of each participating department's and institution's needs at the time of program inception with specific reference to project objectives; formative evaluation to allow for mid-course revisions in the implementation strategy; and, at the conclusion of the project, summative evaluation of the degree to which the project's objectives have been achieved together with observations about the project's continuing potential to influence the participating institutions and their surrounding communities or societies. The final evaluation should also include recommendations about how to build upon project achievements. Evaluative observations by external consultants with appropriate subject and regional expertise are especially encouraged.

Costs

A U.S. college or university must submit the proposal and must be prepared to serve as the grant recipient with responsibility for project coordination. Proposals must include letters of commitment from all institutional partners including the institution submitting the proposal. Each letter must be signed by an official who is authorized to commit institutional resources to the project.

The commitment of all partner institutions to the proposed project should be reflected in the cost-sharing which they offer in the context of their respective institutional capacities. Although the contributions offered by U.S. and foreign institutions with relatively few resources may be less than those offered by applicants with greater resources, all participating institutions should identify appropriate cost-sharing. These costs may include estimated in-kind contributions. Proposed cost-sharing will be considered an important indicator of each participating institution's interest in the project and potential to benefit from it.

The Bureau's support may be used to assist with the costs of the exchange visits as well as the costs of the administration of the project by the U.S. grantee institution. U.S. administrative costs that may be covered by the Bureau include administrative salaries, faculty replacement costs, and direct administrative costs but not indirect costs. In addition to the U.S. administrative costs, the cost of administering the project at the foreign partner organization(s) is eligible for the Bureau's support and may be listed within the program budget. Although each grant will be awarded to a single U.S. institutional partner, adequate provision in the proposal for the administrative costs of the project at all partner institutions, including the foreign partner(s), is strongly encouraged especially if a foreign partner has relatively few resources. More information on partner institution eligibility in this competition is found in this RFGP under the headings “U.S. Institution and Participant Eligibility” and “Foreign Institution and Participant Eligibility.”

The proposal may include a request for funding to reinforce the activities of exchange participants through the establishment and maintenance of Internet and/or electronic mail facilities as well as through interactive technology or non-technology-based distance-learning programs. Funding may not be used for the establishment or maintenance of these facilities at governmental organizations in the U.S. or at foreign governmental organizations other than universities. Projects focusing primarily on technology or physical infrastructure development are not eligible for consideration under this competition. The funding requested for educational and technical materials in support of project activities should not exceed 25 percent of the Bureau's funding for the project. Proposals with distance learning components should describe pertinent course delivery methods, audiences, and technical requirements. Proposals that include Internet, electronic mail, and other interactive technologies in countries where these technologies are not easily maintained or financed should discuss how the foreign partner institution will cover their costs after the project ends.

See the associated document entitled “Project Objectives, Goals, and Implementation” (POGI) for additional information on the funding the Bureau may provide and on restrictions and maximum amounts that apply to certain budget categories.

Applicants may propose other project activities not specifically mentioned in this solicitation if the activities reinforce the impact of the project.

Pending the availability of FY 2003 funds, the maximum award in the FY 2003 competition will be $300,000. The program awards grants for approximately three years.

Awards may be extended on a no-cost basis beyond the initial grant period by mutual agreement if progress toward project goals is satisfactory. Requests for amounts smaller than the maximum are eligible. Budgets and budget notes should carefully justify the amounts requested. Grants awarded to organizations with less than four years of experience in conducting international exchange programs will be limited to $60,000.

Foreign Country and Location Eligibility

Foreign partners from the following countries are eligible:

—Armenia;

—Azerbaijan;

—Georgia;

—Kazakhstan;

—Kyrgyzstan;

—Moldova;

—Russia: Proposals for partnerships with institutions located in Moscow or St. Petersburg should clearly indicate how those partnerships would have an impact on other regions. Proposals which designate a partner institution in the Russian Far East and in Tomsk are especially encouraged.

—Tajikistan: In consideration of the current State Department warning advising U.S. citizens to defer travel to Tajikistan, proposals should not include travel to Tajikistan by U.S. participants for at least the first year of the project. In the event a grant is awarded, the grantee should consult with the program office regarding possible travel by U.S. participants.

—Ukraine: Proposals which designate partner institutions outside Kiev are encouraged;

—Uzbekistan.

Partnerships including a secondary foreign partner in a country not included in the above list are eligible; however, with the exception noted below under the heading “Central European Partners,” the Bureau will not cover overseas partner costs of partners that are not from the eligible countries listed in this section.

Central European Partners: The Bureau encourages proposals that build upon established collaboration between U.S. institutions and their partners in Central and Eastern Europe in order to support faculty and curriculum development in eligible countries and to promote regional cooperation. Funds may be budgeted for the exchange of faculty between foreign partner institutions and institutions of higher learning in Central and Eastern Europe (applicants planning to submit proposals for trilateral partnerships with a partner from Central and Eastern Europe are encouraged to contact the program office).

Eligible Fields

The following fields are eligible:

—The social, political, and economic sciences;

—Business, accounting and trade;

—Journalism and media studies;

—Law;

—Public administration and public policy analysis;

—Library science;

—Education, continuing education, and educational administration. Projects in educational administration may address institutional administrative reform within one of the eligible fields above, may attempt to modernize university governance, or may support the creation of a degree or certificate program in educational administration.

U.S. Institution and Participant Eligibility

The lead institution and grant recipient in the project must be an accredited U.S. college or university. Applications from community colleges, institutions serving significant minority populations, undergraduate liberal arts colleges, comprehensive universities, research universities, and combinations of these types of institutions are eligible. The lead U.S. organization in a consortium or other combination of cooperating institutions is responsible for submitting the application. Each application must document the lead organization's authority to represent all U.S. cooperating partners. Secondary U.S. partners may include governmental or non-governmental organizations at the federal, state, or local levels as well as non-profit service, community and professional organizations.

With the exception of translators and outside evaluators, participation is limited to teachers, advanced graduate students, and administrators from the participating U.S. institution(s). All participants who are funded by the Bureau under the program budget and who represent the U.S. institution must be U.S. citizens. Advanced graduate students at the U.S. institution(s) are eligible for support from the project as visiting instructors at a reign partner institution.

Foreign Institution and Participant Eligibility

In eligible countries, participation as a primary partner is open to recognized degree granting institutions of post-secondary education. Secondary partners may include independent research institutes, relevant governmental organizations, and private non-profit organizations with project-related educational objectives. Except for translators and outside consultants reporting on the status of project objectives, participation is limited to teachers, administrators, researchers, or advanced students from the participating foreign institution(s). Any advanced student participant must have teaching responsibilities or be preparing for such responsibilities. Foreign participants must be both qualified to receive U.S. J-1 visas and willing to travel to the U.S. under the provisions of a J-1 visa during the exchange visits funded by this Program. Foreign participants may not be U.S. citizens.

Ineligibility

A proposal will be deemed technically ineligible for consideration if:

(1) It does not fully adhere to the guidelines established in this document and in the Solicitation Package;

(2) It is not received by the deadline;

(3) It is not submitted by the U.S. partner;

(4) One of the partner institutions is ineligible;

(5) The foreign country or geographic location is ineligible.

Authority

Overall grant-making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program cited above is provided through the Freedom for Russia and Emerging Eurasian Democracies and Open Markets Support Act of 1992 (FREEDOM Support Act).

Projects must conform with the Bureau's requirements and guidelines outlined in the solicitation package for this RFGP. Proposals that do not follow RFGP requirements and the guidelines appearing in the POGI and PSI will be excluded from consideration due to technical ineligibility.

Announcement Title and Number

All communications with the Bureau concerning this announcement should refer to the FREEDOM Support Educational Partnerships Program and reference number ECA/A/S/U-03-04.

Deadline for Proposals

All copies must be received at the Bureau of Educational and Cultural Affairs by 5 p.m. Washington, DC time on Friday, December 6, 2002. Faxed documents will not be accepted (although faxed letters of commitment from non-U.S. institutional partners may be submitted as part of the original proposal), nor will documents postmarked on Friday, December 6, 2002 but received on a later date.

Approximate Grant Duration

Pending the availability of funds, grant activities should begin on or about September 1, 2003 and should be planned to extend for approximately three years.

To Download a Solicitation Package Via Internet

Projects must conform with the Bureau's requirements and guidelines outlined in the Solicitation Package for this RFGP. The Solicitation Package includes more detailed award criteria, all application forms, and guidelines for preparing proposals, including specific criteria for preparation of the proposal budget. The Solicitation Package includes the Project Objectives, Goals, and Implementation (hereafter, POGI) and the Proposal Submission Instructions (hereafter, PSI). The entire Solicitation Package may be downloaded from the Bureau's Web site at: http://exchanges.state.gov/education/rfgps. Please read all information before downloading.

FOR FURTHER INFORMATION CONTACT: For further information, contact the Humphrey Fellowships and Institutional Linkages Branch (FREEDOM Support Educational Partnerships Program); Office of Global Educational Programs; Bureau of Educational and Cultural Affairs; ECA/A/S/U, Room 349; U.S. Department of State; SA-44, 301 Fourth Street, SW., Washington, DC 20547; phone: (202) 619-5289, fax: (202) 401-1433. Prospective applicants are strongly encouraged to communicate about their proposals with one of the following regional program officers: Alanna Bailey (telephone: (202) 205-8266, e-mail: abailey@pd.state.gov) on all inquiries and correspondence regarding partnerships in the Central Asia or Caucasus regions; Jonathan Cebra (telephone: (202) 205-8379, e-mail: jcebra@pd.state.gov) on all inquiries and correspondence regarding partnerships with institutions in Ukraine; Marie Grant (telephone: (202) 619-5313, e-mail: mwestbro@pd.state.gov) on inquiries and correspondence regarding partnerships in Moldova; Michelle Johnson (telephone: (202) 205-8434, e-mail: johnsonmi@pd.state.gov) on all inquiries and correspondence regarding partnerships with institutions in Russia.

Once the RFGP deadline has passed, Department staff may not discuss this competition in any way with applicants until the Bureau proposal review process has been completed.

Submissions

Applicants must follow all instructions given in the Solicitation Package. The original and 10 hard copies of the complete application package should be sent by the project's lead U.S. college or university to: U.S. Department of State, SA-44, Bureau of Educational and Cultural Affairs, Ref: ECA/A/S/U-03-04, Program Management, ECA/EX/PM, Room 534, 301 4th Street, SW., Washington, DC 20547.

No later than one week after the deadline for receipt of the grant proposal, applicants must also submit the “Proposal Title Page,” “Executive Summary,” and “Proposal Narrative,” sections of the proposal as e-mail attachments in Microsoft Word (preferred), WordPerfect, or as ASCII text files to the following e-mail address: partnerships@pd.state.gov. In the e-mail message subject line, include the following: ECA/A/S/U-03-04 and the country or countries of the foreign partner(s) together with the names of the U.S. and foreign partner institutions. To reduce the time needed to obtain advisory comments from the Public Affairs Sections of U.S. Embassies overseas, the Bureau will transmit these files electronically to these offices.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. All eligible proposals will be evaluated by independent external reviewers. These reviewers, who will be professional, scholarly, or educational experts with appropriate regional and thematic knowledge, will provide recommendations and assessments for consideration by the Bureau. The Bureau will consider for funding only those proposals which are recommended for funding by the independent external reviewers.

Proposals may be reviewed by the Office of the Legal Advisor or by other offices of the U.S. Department of State. In addition, U.S. Embassy officers may provide advisory comment. Final funding decisions are at the discretion of the Department of State's Assistant Secretary for Educational and Cultural Affairs. Final technical authority for assistance awards (grants or cooperative agreements) will reside with the Bureau's grants officer.

Review Criteria

All reviewers will use the criteria below to reach funding recommendations and decisions. Technically eligible applications will be reviewed competitively according to these criteria, which are not rank-ordered or weighted.

(1) Broad and Enduring Significance of Institutional Objectives: Project objectives should have significant and ongoing results for the participating institutions and for their surrounding societies or communities by providing a deepened understanding of critical issues in one or more of the eligible fields. Project objectives should relate clearly to institutional and societal needs.

(2) Creativity and Feasibility of Strategy to Achieve Project Objectives: Strategies to achieve project objectives should be feasible and realistic within the projected budget and timeframe. These strategies should utilize and reinforce exchange activities creatively to ensure an efficient use of program resources.

(3) Institutional Commitment to Cooperation: Proposals should demonstrate significant understanding by each institution of its own needs and capacities and of the needs and capacities of its proposed partner(s), together with a strong commitment by the partner institutions, during and after the period of grant activity, to cooperate with one another in the mutual pursuit of institutional objectives.

(4) Project Evaluation: Proposals should outline a methodology for determining the degree to which a project meets its objectives, both while the project is underway and at its conclusion. The final project evaluation should include an external component and should provide observations about the project's influence within the participating institutions as well as their surrounding communities or societies.

(5) Cost-effectiveness: Administrative and program costs should be reasonable and appropriate with cost sharing provided by all participating institutions within the context of their respective capacities. We view cost sharing as a reflection of institutional commitment to the project. Although indirect costs are eligible for inclusion as cost sharing by the applicant, contributions should not be limited to indirect costs.

(6) Support of Diversity: Proposals should demonstrate substantive support of the Bureau's policy on diversity by explaining how issues of diversity are included in project objectives for all institutional partners. Issues resulting from differences of race, ethnicity, gender, religion, geography, socio-economic status, or physical challenge should be addressed during project implementation. In addition, project participants and administrators should reflect the diversity within the societies which they represent (see the section of this document on “Diversity, Freedom, and Democracy Guidelines”). Proposals should also discuss how the various institutional partners approach diversity issues in their respective communities or societies.

Notice

The terms and conditions published in this RFGP are binding and may not be modified by any State Department representative. Explanatory information provided by the Department of State that contradicts published language will not be binding. Issuance of the RFGP does not constitute an award commitment on the part of the Government. The Bureau reserves the right to reduce, revise, or increase proposal budgets in accordance with the needs of the program and the availability of funds. Awards made will be subject to periodic reporting and evaluation requirements.

Notification Final awards cannot be made until funds have been appropriated by Congress, allocated and committed through internal Bureau procedures.

Dated: April 11, 2002.
Patricia S. Harrison,
Assistant Secretary for Educational and Cultural Affairs, Department of State.

[FR Doc. 02-9506 Filed 4-17-02; 8:45 am]

BILLING CODE 4710-05-P